DEPARTMENT OF DEFENSE

Department of the Army

Notice of Intent To Grant Exclusive Patent Licenses to III HOLDINGS 3, LLC; Wilmington, DE

AGENCY: Department of the Army, DoD.

ACTION: Notice of Intent.

SUMMARY: In compliance with 35 U.S.C. 209(e) and 37 CFR 404.7(a)(1)(i), the Department of the Army hereby gives notice of its intent to grant to III HOLDINGS 3, LLC; a corporation having its principle place of business at 2711 Centerville Rd., Suite 400, Wilmington, DE 19808, exclusive licenses relative to the following U.S. Patents and Patent Applications:

• 7,343,362; “Low complexity classification from a single unattended ground sensor node”; 23 September 2004.

• 7,919,764; “Method and apparatus for enhanced terahertz radiation from high stacking fault density”; 5 May 2009.

• 12/639279; “Distributed Geospatial Communications System”; 16 December 2009.

• 8,269,200; “Terahertz radiation device and method of generating terahertz radiation”; 8 March 2011.

• 7,233,142; “Planer reader of non-erasable magnetic media and local permeability”; 2 September 2004.

• KR 10-2011-7017044; “Distributed Geospatial Communications System”; 23 December 2009.

• IL 213603; “Distributed Geospatial Communications System”; 21 July 2011.

DATES: The prospective exclusive licenses may be granted unless within fifteen (15) days from the date of this published notice, the U.S. Army Research Laboratory receives written objections including evidence and argument that establish that the grant of the licenses would not be consistent with the requirements of 35 U.S.C. 209 and 37 CFR 404.7. Competing applications completed and received by the U.S. Army Research Laboratory within fifteen (15) days from the date of this published notice will also be treated as objections to the grant of the contemplated exclusive licenses.

Objections submitted in response to this notice will not be made available to the public for inspection and, to the extent permitted by law, will not be released under the Freedom of Information Act, 5 U.S.C. 552.

ADDRESSES: Send written objections to Thomas Mulkern, U.S. Army Research Laboratory, Office of Research and Technology Applications, ATTN: RDRL-DPP, B321, Aberdeen Proving Ground, MD 21005-5425.

FOR FURTHER INFORMATION CONTACT: Thomas Mulkern, (410) 278-0889.

SUPPLEMENTARY INFORMATION: None.

Brenda S. Bowen,
Army Federal Register Liaison Officer.

[FR Doc. 2014-18778 Filed 8-7-14; 8:45 am]

BILLING CODE 3710-08-P